FEDERAL COMMUNICATIONS COMMISSION

Public Safety and Homeland Security Bureau; Federal Advisory Committee Act; Communications Security, Reliability, and Interoperability Council; Notice of Public Meeting

February 26, 2010.

SUMMARY: In accordance with the Federal Advisory Committee Act, this notice advises interested persons that the Federal Communications Commission's (FCC) Communications Security, Reliability, and Interoperability Council (CSRIC) will hold its second meeting on March 22, 2010, from 9 a.m. to 1 p.m. in the Commission Meeting Room of the Federal Communications Commission, Room 59184 TW-C305, 445 12th Street, SW., Washington, DC 20554.

DATES: March 22, 2010.

ADDRESSES: Federal Communications Commission, Room TW-C305 (Commission Meeting Room), 445 12th Street, SW., Washington, DC 20554.

FOR FURTHER INFORMATION CONTACT: Jeffery Goldthorp, Designated Federal Officer of the FCC's CSRIC, (202) 418-1096 (voice) or jeffery.goldthorp@fcc.gov (e-mail); or Jean Ann Collins, Deputy Designated Federal Officer of the FCC's CSRIC, 202-418-2792 (voice) or jeanann.collins@fcc.gov (e-mail).

SUPPLEMENTARY INFORMATION: The CSRIC is a Federal Advisory Committee that will provide recommendations to the FCC regarding best practices and actions the FCC can take to ensure optimal security, reliability, and interoperability of communications systems. On March 19, 2009, the FCC, pursuant to the Federal Advisory Committee Act, renewed the charter for the CSRIC for a period of two years through March 18, 2011.

At this meeting, the co-chairs of each CSRIC working group will provide an update of the working group's plan for completing its tasks and progress made to date. One working group, Working Group 4A, will present recommendations regarding Best Practices for Reliable 9-1-1 and E9-1-1. Presentations will also be made by individuals from some of the entities represented on the CSRIC. Members of the general public may attend the meeting. The FCC will attempt to accommodate as many people as possible. However, admittance will be limited to seating availability. The Commission will provide audio and/or video coverage of the meeting over the Internet from the FCC's Web page at http://www.fcc.gov/live. The public may submit written comments before the meeting to Jeffery Goldthorp, the FCC's Designated Federal Officer for the CSRIC by e-mail to Jeffery.goldthorp@fcc.gov or U.S. Postal Service Mail to Jeffery Goldthorp, Chief, Communications Systems Analysis Division, Public Safety and Homeland Security Bureau, Federal Communications Commission, 445 12th Street, SW., Room 7-A325, Washington, DC 20554.

Open captioning will be provided for this event. Other reasonable accommodations for people with disabilities are available upon request. Requests for such accommodations should be submitted via e-mail to fcc504@fcc.gov or by calling the Consumer & Governmental Affairs Bureau at (202) 418-0530 (voice), (202) 418-0432 (tty). Such requests should include a detailed description of the accommodation needed. In addition, please include a way the FCC can contact you if it needs more information. Please allow at least five days advance notice; last minute requests will be accepted, but may be impossible to fill.

Additional information regarding the CSRIC can be found at: http://www.fcc.gov/pshs/advisory/csric/.

Federal Communications Commission.
Marlene H. Dortch,
Secretary.

[FR Doc. 2010-4565 Filed 3-3-10; 8:45 am]

BILLING CODE 6712-01-P